DEPARTMENT OF COMMERCE

National Oceanic and Atmospheric Administration

RIN 0648-XE388

Endangered and Threatened Species; Notice of Initiation of a 5-Year Review and Notice of Intent To Update the Recovery Plan for the U.S. Distinct Population Segment of Smalltooth Sawfish (Pristis pectinata)

AGENCY: National Marine Fisheries Service (NMFS), National Oceanic and Atmospheric Administration, Commerce.

ACTION: Notice of initiation of a 5-year review and notice of intent to update a recovery plan; request for information.

SUMMARY: We, NMFS, announce the initiation of a 5-year review for the U.S. distinct population segment (DPS) of smalltooth sawfish (hereafter referred to as `smalltooth sawfish'), and our intent to update the smalltooth sawfish recovery plan. A 5-year review is a periodic process conducted to ensure that the listing classification of a species is accurate. Recovery plans are guides to rebuild and assure the long-term viability of protected species in the wild. Each document is based on the best scientific and commercial data available at the time of the review/update. Therefore, we are requesting submission of any information on the status of smalltooth sawfish that has become available since the previous iterations of these documents in 2010 and 2009 respectively.

DATES: Information regarding the status of smalltooth sawfish must be received by March 22, 2016.

ADDRESSES: You may submit information by either of the following methods:

• Electronic Submissions: Submit all electronic comments via the Federal eRulemaking Portal. Go to www.regulations.gov/#!docketDetail;D=NOAA-NMFS-2016-0005, click the “Comment Now!” icon, complete the required fields, and enter or attach your comments.

• Mail: Submit written information to the Protected Resources Division, NMFS Southeast Regional Office, 263 13th Avenue South, Saint Petersburg, FL 33701.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous), although submitting comments anonymously will prevent us from contacting you if we have difficulty retrieving your submission. Attachments to electronic comments will be accepted in Microsoft Word, Excel, or Adobe PDF file formats only.

FOR FURTHER INFORMATION CONTACT: Adam Brame, Protected Resources Division, 727-209-5958.

SUPPLEMENTARY INFORMATION:

Background

Section 4(c)(2)(A) of the Endangered Species Act of 1973 (ESA), as amended, requires that we conduct a review of listed species at least once every five years. The regulations in 50 CFR 424.21 require that we publish a notice in the Federal Register announcing those species currently under active review. This notice announces our active review of the smalltooth sawfish.

Section 4(f) of the ESA requires NMFS to develop and implement recovery plans for the conservation and survival of federally-listed species. Section 4(f) also requires that a public notice and opportunity to review and comment be provided during recovery plan development.

Recovery means that listed species and their ecosystems are restored, and their future secured, so that the protections of the ESA are no longer necessary. The ESA specifies that recovery plans must include: (1) A description of management actions necessary to achieve the plan's goals for the conservation and survival of the species; (2) objective, measurable criteria which, when met, would result in the species being removed from the list; and (3) estimates of the time and costs required to achieve the plan's goal and the intermediate steps towards that goal.

The U.S. DPS of smalltooth sawfish (Pristis pectinata) was listed as endangered under the ESA on April 1, 2003 (68 FR 15680) subsequent to a 1999 listing petition from The Ocean Conservancy. Smalltooth sawfish were once prevalent throughout Florida and were encountered from Texas to North Carolina. Currently, smalltooth sawfish can only be found with any regularity in south Florida between the Caloosahatchee River and the Florida Keys. The smalltooth sawfish recovery team prepared a recovery plan in 2009. Then in 2010, NMFS completed the first 5-year review for the species. NMFS will consider all substantive comments and information presented during the public comment period in the course of drafting each of these documents.

Public Solicitation of New Information

To ensure that the 5-year review is complete and based on the best available scientific and commercial information, we are soliciting new information from the public, governmental agencies, Tribes, the scientific community, industry, environmental entities, and any other interested parties concerning the status of smalltooth sawfish in U.S. waters. Categories of requested information include: (1) Species biology including, but not limited to, population trends, distribution, abundance, demographics, and genetics; (2) habitat conditions including, but not limited to, amount, distribution, and suitability; (3) conservation measures that have been implemented that benefit the species; (4) status and trends of threats; and (5) other new information, data, or corrections. Any new information will be considered during the 5-year review and will also be incorporated, as appropriate, into the recovery plan update.

In regards to the recovery plan, we are soliciting relevant information related to smalltooth sawfish and their habitats, including: (1) Criteria for removing smalltooth sawfish from the list of threatened and endangered species; (2) human activities that contribute to the ESA listing factors (section 4(a)(1)(A)-(E)); (3) strategies and/or actions necessary to recover smalltooth sawfish; (4) critical knowledge gaps and/or uncertainties that need to be resolved to better inform recovery efforts; and (5) research, monitoring and evaluation needs to address knowledge gaps and uncertainties, to assess the species' status, or to evaluate progress in addressing the ESA listing factors relative to recovery goals. Upon completion, the updated recovery plan will be available for public review and comment through the publication of a Federal Register Notice.

Authority

The authority for this action is the Endangered Species Act of 1973, as amended (16 U.S.C. 1531 et seq.).

Dated: January 19, 2016.
Angela Somma,
Chief, Endangered Species Division, Office of Protected Resources, National Marine Fisheries Service.

[FR Doc. 2016-01239 Filed 1-21-16; 8:45 am]

BILLING CODE 3510-22-P